INTERNATIONAL TRADE COMMISSION

[Investigation Nos. 701-TA-467 and 731-TA-1164-1165 (Review)]

Narrow Woven Ribbons With Woven Selvedge From China and Taiwan

Determinations

On the basis of the record ¹ developed in the subject five-year reviews, the United States International Trade Commission (“Commission”) determines, pursuant to the Tariff Act of 1930 (“the Act”), that revocation of the countervailing duty order on narrow woven ribbons with woven selvedge from China and the antidumping duty orders on narrow woven ribbons with woven selvedge from China and Taiwan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on August 3, 2015 (80 FR 46048) and determined on November 6, 2015 that it would conduct full reviews (80 FR 73829, November 25, 2015). Notice of the scheduling of the Commission's reviews and of a public hearing to be held in connection therewith was given by posting copies of the notice in the Office of the Secretary, U.S. International Trade Commission, Washington, DC, and by publishing the notice in the Federal Register on February 29, 2016 (81 FR 10279). The hearing was held in Washington, DC, on July 12, 2016, and all persons who requested the opportunity were permitted to appear in person or by counsel.

The Commission made these determinations pursuant to section 751(c) of the Act (19 U.S.C. 1675(c)). It completed and filed its determinations in these reviews on September 9, 2016. The views of the Commission are contained in USITC Publication 4634 (September 2016), entitled Narrow Woven Ribbons with Woven Selvedge from China and Taiwan: Investigation Nos. 701-TA-467 and 731-TA-1164-1165 (Review).

By order of the Commission.
Issued: September 9, 2016.
Katherine M. Hiner,
Supervisory Attorney Advisor.

[FR Doc. 2016-22144 Filed 9-14-16; 8:45 am]

BILLING CODE 7020-02-P